DEPARTMENT OF COMMERCE

Foreign-Trade Zones Board

[Docket 53-2003]

Foreign-Trade Zone 200—Mercer County, NJ, Area; Amendment of Expansion Application

Notice is hereby given that the application by Mercer County, New Jersey, grantee of FTZ 200, in Mercer County, New Jersey, for authority to expand its zone in the Mercer County, New Jersey area (Doc. 53-2003, 68 FR 58652, 10/10/03), has been amended as follows:

Proposed Site 3a located at the Marine Terminal Industrial Park, between 1463-2785 Lambert Street, Trenton, has been reduced from 85 acres to 78 acres.

Proposed Site 3b (20 acres) located at the Roebling Market (Park) in Trenton has been removed from the expansion proposal.

Proposed Site 3c located at the Hill Industrial Park, between Pennington Ave., Ingham Ave. and Chelton Ave., Trenton, has been changed to New Proposed Site 3b, and it has also been reduced from 24 acres to 7 acres. The Globe Street location has been removed.

Proposed Site 4a located at the Northwest Business Park, between the intersection of Interstate 195 and the New Jersey Turnpike Exit 7A, Municipality of Washington, has been reduced from 883 acres to 882 acres.

Proposed Site 4b located at the Windsor Industrial Park, between 92-120 North Main Street, Municipality of Washington, has been changed to between 92-108 North Main Street, and reduced from 243 acres to 71 acres.

Proposed Site 4c located at the North Gold Industrial Park, along North Gold Drive, Municipality of Washington, has been reduced from 33 acres to 31 acres.

Proposed Site 5 located at the New Jersey Turnpike Exit 8-Route 33 Corridor, Municipality of East Windsor, has been reduced from 361 acres to 350 acres.

Proposed Site 6a (629 acres) located at the East State Street Corridor, the Industrial Drive Business Area and the Fairgrounds Industrial Park area in the Municipality of Hamilton, has been removed from the expansion proposal.

Proposed Site 6b (562 acres) formerly located at the Crossroads Corporate Center, the Edgerbrook Business Park, the Kuser Road Business Development Area, the Hamilton Business Park, the Interstate 95 Business Park, the Matrix Industrial Park and the Horizon Center, in the Municipality of Hamilton, has been changed to New Proposed Site 6 (229 acres) located at the Hamilton Business Park between Gold Drive and Marlen Drive, the Matrix Industrial Park on Cabot Drive and the Horizon Center between Horizon Center Blvd. and Horizon Drive, in the Municipality of Hamilton. The application otherwise remains unchanged.

Comments on the changes may be submitted to the Foreign-Trade Zones Board, U.S. Department of Commerce, FCB-Suite 4100W, 1401 Constitution Ave., NW., Washington, DC 20230, by April 16, 2004.

Dated: March 8, 2004.
Dennis Puccinelli,
Executive Secretary.

[FR Doc. 04-5924 Filed 3-15-04; 8:45 am]

BILLING CODE 3510-DS-P